DEPARTMENT OF TRANSPORTATION

Surface Transportation Board

[Docket No. FD 35501]

Carolina Coastal Railway, Inc.—Acquisition and Operation Exemption—Rocky Mount & Western Railroad Co., Inc. d/b/a Nash County Railroad

Carolina Coastal Railway, Inc. (CLNA), a Class III rail carrier, has filed a verified notice of exemption under 49 CFR 1150.41 to acquire from Rocky Mount & Western Railroad Co., Inc. d/b/a Nash County Railroad (NCR), and to operate, approximately 14.9-miles of rail line currently owned and operated by NCR extending between the connection with CSX Transportation, Inc. at milepost 119.9 at Rocky Mount, N.C. and milepost 134.8 at Momeyer, N.C.

CLNA certifies that its projected annual revenues as a result of this transaction will not result in CLNA's becoming a Class II or Class I rail carrier and will not exceed $5 million.

The proposed transaction is scheduled to be consummated on or after May 25, 2011, the effective date of the exemption (30 days after the exemption was filed).

If the verified notice contains false or misleading information, the exemption is void ab initio. Petitions to revoke the exemption under 49 U.S.C. 10502(d) may be filed at any time. The filing of a petition to revoke will not automatically stay the effectiveness of the exemption. Stay petitions must be filed no later than May 18, 2011 (at least 7 days before the exemption becomes effective).

An original and 10 copies of all pleadings, referring to Docket No. FD 35501, must be filed with the Surface Transportation Board, 395 E Street, SW., Washington, DC 20423-0001. In addition, a copy of each pleading must be served on John D. Heffner, John D. Heffner, PLLC, 1750 K Street, NW., Suite 200, Washington, DC 20006.

Board decisions and notices are available on our Web site at http://www.stb.dot.gov.

Decided: May 4, 2011.
By the Board.
Rachel D. Campbell,
Director, Office of Proceedings.
Jeffrey Herzig,
Clearance Clerk.

[FR Doc. 2011-11340 Filed 5-9-11; 8:45 am]

BILLING CODE 4915-01-P